DEPARTMENT OF HEALTH AND HUMAN SERVICES

Food and Drug Administration

[Docket No. 01N-0437]

Agency Information Collection Activities; Submission for OMB Review; Comment Request; New Animal Drugs for Investigational Use

AGENCY: Food and Drug Administration, HHS.

ACTION: Notice.

SUMMARY: The Food and Drug Administration (FDA) is announcing that the proposed collection of information listed below has been submitted to the Office of Management and Budget (OMB) for review and clearance under the Paperwork Reduction Act of 1995.

DATES: Submit written comments on the collection of information by February 13, 2002.

ADDRESSES: Submit written comments on the collection of information to the Office of Information and Regulatory Affairs, OMB, New Executive Office Bldg., 725 17th St. NW., Washington, DC 20503, Attn: Stuart Shapiro, Desk Officer for FDA.

FOR FURTHER INFORMATION CONTACT: Denver Presley, Office of Information Resources Management (HFA-250), Food and Drug Administration, 5600 Fishers Lane, Rockville, MD 20857, 301-827-1472.

SUPPLEMENTARY INFORMATION: In compliance with 44 U.S.C. 3507, FDA has submitted the following proposed collection of information to OMB for review and clearance.

New Animal Drugs for Investigational Use—21 CFR Part 511 (OMB Control No. 0910-0017)—Extension

FDA has the responsibility under the Federal Food, Drug, and Cosmetic Act (the act) for approval of new animal drugs. Section 512(j) of the act (21 U.S.C. 360b(j)) authorizes FDA to issue regulations relating to the investigational use of new animal drugs. The regulations setting forth the conditions for investigational use of new animal drugs have been codified at part 511 (21 CFR part 511). A sponsor must submit to FDA a notice of claimed investigational exemption (INAD) before shipping the new animal drug for clinical tests in animals. The INAD must contain, among other things, the following specific information: (1) Identity of the new animal drug, (2) labeling, (3) statement of compliance of any nonclinical laboratory studies with good laboratory practices, (4) name and address of each clinical investigator, (5) the approximate number of animals to be treated or amount of new animal drug(s) to be shipped, and (6) information regarding the use of edible tissues from investigational animals. The regulations in part 511 also require that records be established and maintained to document the distribution and use of the investigational drug to assure that its use is safe, and that distribution is controlled to prevent potential abuse. The agency utilizes these required records under its Bio-Research Monitoring Program to monitor the validity of the studies submitted to FDA to support new animal drug approval and to assure that proper use of the drug is maintained by the investigator.

Investigational new animal drugs are used primarily by drug industry firms, academic institutions, and the government. Investigators may include individuals from these entities as well as research firms and members of the medical profession. Respondents to this collection of information are the persons who use new animal drugs investigationally.

FDA estimates the burden of this collection of information as follows:

Table 1.—Estimated Annual Reporting Burden¹
21 CFR Section | No. of Respondents | Annual Frequency per ­Response | Total Annual ­Responses | Hours per Response | Total Hours
511.1(b)(4) | 190 | 6 | 1,147 | 8 | 9,176
511.1(b)(5) | 190 | 1.5 | 287 | 140 | 40,180
511.1(b)(6) | 190 | .005 | 1 | 250 | 250
511.1(b)(8)(ii) | 190 | .005 | 1 | 20 | 20
511.1(b)(9) | 190 | .16 | 30 | 8 | 240
Total |  |  |  |  | 49,866
¹ There are no capital costs or operating and maintenance costs associated with this collection of information.

Table 2.—Estimated Annual Recordkeeping Burden¹
21 CFR Section | No. of Recordkeepers | Annual Frequency ­per ­Recordkeeping | Total Annual Records | Hours per Recordkeeper | Total Hours
511.1(a)(3) | 190 | 7.5 | 1,434 | 9 | 12,906
511.1 (b)(3) | 190 | 10 | 1,912 | 1 | 1,912
511.1(b)(7)(ii) | 190 | 2 | 956 | 3.5 | 3,346
511.1(b)(8)(i) | 190 | 4 | 956 | 3.5 | 3,346
Total |  |  |  |  | 21,510
¹ There are no capital costs or operating and maintenance costs associated with this collection of information.

The estimate of the time required for reporting requirements, record preparation, and maintenance for this collection of information is based on agency communication with industry. Additional information needed to make a final calculation of the total burden hours (i.e., the number of respondents, the number of recordkeepers, the number of INAD applications received, etc.) is derived from agency records.

Dated: January 7, 2002.
Margaret M. Dotzel,
Associate Commissioner for Policy.

[FR Doc. 02-855 Filed 1-11-02; 8:45 am]

BILLING CODE 4160-01-S